UNIFIED CARRIER REGISTRATION PLAN

Sunshine Act Meetings

TIME AND DATE: December 7, 2023, 10 a.m. to 1 p.m., Central Time.

PLACE: The meeting took place at the Hyatt Place San Antonio/Riverwalk Hotel, 601 S St Mary's St., San Antonio, TX 78205. This meeting was accessible via conference call and via Zoom Meeting and Screenshare. Any interested person may have called (i) 1-929-205-6099 (US Toll) or 1-669-900-6833 (US Toll), Meeting ID: 996 4555 2218, to listen and participate in this meeting. The website to participate via Zoom Meeting and Screenshare was https://kellen.zoom.us/meeting/register/tJ0rc-ytqzkoG9zdIEj7RIgwASUMMlFa89UA.

STATUS: This meeting was open to the public.

MATTERS TO BE CONSIDERED: The Unified Carrier Registration Plan Board of Directors (the “Board”) will continue its work in developing and implementing the Unified Carrier Registration Plan and Agreement. The subject matter of this meeting included:

Proposed Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed. The Board will consider action to adopt.

Ground Rules

➢ Board actions taken only in designated areas on the agenda.

IV. Approval of Minutes of the September 28, 2023 UCR Board Meeting—UCR Board Chair

For Discussion and Possible Board Action

Draft Minutes from the September 28, 2023 UCR Board meeting will be reviewed. The Board will consider action to approve.

V. Report of FMCSA—FMCSA Representative

The Federal Motor Carrier Safety Administration (FMCSA) will provide a report on any relevant agency activity.

VI. Reopening of Nominations for the Position of Vice-Chair of the UCR Board and Following the Completion of the Nominating Process a Final Vote Recommending to the U.S. DOT Secretary/FMCSA Designation a Director To Serve as Vice-Chair of the UCR Board—UCR Board Chair

For Discussion and Possible Board Action

The UCR Board Chair will entertain a motion, second, and vote to reopen nominations for the position of Vice-Chair of the UCR Board. The name(s) of all nominees will then be submitted to the Board for a vote. The name of the Director receiving the most votes will then be forwarded to the US DOT/FMCSA for FMCSA's consideration and possible designation as Vice-Chair of the UCR Board.

VII. 2021 UCR Financial Audit Update—UCR Executive Director and a Kellen Representative

The UCR Executive Director and a Kellen Representative will provide an update on the 2021 financial audit conducted by Warren Averett.

VIII. Subcommittee Reports

Audit Subcommittee—UCR Audit Subcommittee Chair

A. The Audit Subcommittee Recommends to the UCR Board That the UCR Board Replace the Current Retreat Audit Program With a Program That Relies on NRS Roadside Inspection Data—UCR Audit Subcommittee Chair, UCR Audit Subcommittee Vice-Chair and a Seikosoft Representative

For Discussion and Possible Board Action

The UCR Audit Subcommittee Chair will lead a discussion on options to replace the Retreat Audit Program currently utilized by the States with an automated roadside inspection data driven audit for non-IRP and IRP plated commercial motor vehicles and the motor carriers operating these types of registered equipment. The Board may take action to replace the current retreat audit program with a new program that relies on NRS roadside inspection data.

B. The Audit Subcommittee Recommends a Policy for Closure of Participating and Non-Participating States Focused Anomaly Reviews (FARs)—UCR Audit Subcommittee Chair and UCR Audit Subcommittee Vice-Chair

For Discussion and Possible Board Action

The UCR Audit Subcommittee Chair will lead a discussion on the required steps to close both participating and non-participating state FARs. The Board may take action to adopt a policy for closure of FARs from participating and non-participating states.

Finance Subcommittee—UCR Finance Subcommittee Chair

A. 2025 Registration Fee Submission—UCR Finance Subcommittee Chair

The UCR Finance Subcommittee Chair will provide an update on the 2025 registration fee recommendation approved at the last Board meeting.

B. Review and Approval of 2024 UCR Administrative Budget—UCR Depository Manager and UCR Finance Subcommittee Chair

For Discussion and Possible Board Action

The UCR Depository Manager and UCR Finance Subcommittee Chair will lead a discussion regarding the proposed 2024 UCR administrative budget. The Finance Subcommittee recommends approval of the 2024 proposed administrative budget. The Board may take action to approve the proposed 2024 administrative budget.

Education and Training Subcommittee—UCR Education and Training Subcommittee Chair

Update on Current and Future Training Initiatives—UCR Education and Training Subcommittee Chair

The UCR Education and Training Subcommittee Chair will provide an update on current and planned future training initiatives.

Industry Advisory Subcommittee—UCR Industry Advisory Subcommittee Chair

Update on Current Initiatives—UCR Industry Advisory Subcommittee Chair

The UCR Industry Advisory Subcommittee Chair will provide an update on current and planned initiatives regarding motor carrier industry concerns.

Enforcement Subcommittee—UCR Enforcement Subcommittee Chair

Update on Current Initiatives—UCR Enforcement Subcommittee Chair

The UCR Enforcement Subcommittee Chair will provide an update on current and planned initiatives.

Dispute Resolution Subcommittee—UCR Dispute Resolution Subcommittee Chair

Update on Current Initiatives—UCR Dispute Resolution Subcommittee Chair

The UCR Dispute Resolution Subcommittee Chair will provide an update on planned initiatives.

IX. Contractor Reports—UCR Board Chair

UCR Executive Director's Report

The UCR Executive Director will provide a report covering his recent activity for the UCR Plan.

UCR Administrator Report (Kellen)

The UCR Chief of Staff will provide a management report covering recent activity for the Depository, Operations, and Communications.

DSL Transportation Services, Inc.

DSL Transportation Services, Inc. will report on the latest data from the FARs program, discuss motor carrier inspection results, pilot projects and other matters.

Seikosoft

Seikosoft will provide an update on recent/new activity related to the National Registration System.

X. Other Business—UCR Board Chair

The UCR Board Chair will call for any other business, old or new, from the floor.

XI. Adjournment—UCR Board Chair

The UCR Board Chair will adjourn the meeting.

The agenda was available no later than 5 p.m. Eastern time, November 27, 2023, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2023-27384 Filed 12-11-23; 4:15 pm]

BILLING CODE 4910-YL-P